DEPARTMENT OF HOUSING AND URBAN DEVELOPMENT

[Docket No. FR-5045-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn M. Halvorson, Director, Air Force Real Property Agency, 1700 North Moore St., Suite 2300, Arlington, VA 22209-2802; (703) 696-5502; Coast Guard: Commandant, U.S. Coast Guard, Attn: Teresa Sheinberg, 2100 Second St., SW., Rm 6109, Washington, DC 20593-0001; (202 267-6142; COE: Ms. Shirley Middleswarth, Army Corps of Engineers, Civil Division, 441 G Street, NW., Washington, DC 20314-1000; (202) 761-1295; Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th and F Streets, NW., Washington, DC 20405; (202) 501-0084; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: May 11, 2006.
Mark R. Johnston,
Acting Deputy Assistant Secretary for Special Needs.

Title V, Federal Surplus Property Program, Federal Register Report for 5/19/06

Suitable/Available Properties

Buildings (by State)

Nevada

Young Fed Bldg/Courthouse, 300 Booth Street

Reno Co: NV 89502-

Landholding Agency: GSA

Property Number: 54200620014

Status: Surplus

Comment: 85,637 sq. ft. available, presence of asbestos/lead paint, seismic issues

GSA Number: 9-G-NV-529-2

North Dakota

Residence #1

Hwy 30/Canadian Border

St. John Co: Rolette ND 58369-

Landholding Agency: GSA

Property Number: 54200620005

Status: Excess

Comment: 1300 sq. ft., possible asbestos/lead paint, off-site use only

GSA Number: 7-G-ND-0504

Residence #2

Hwy 30/Canadian Border

St. John Co: Rolette ND 58369-

Landholding Agency: GSA

Property Number: 54200620006

Status: Excess

Comment: 1300 sq. ft., possible asbestos/lead paint, off-site use only

GSA Number: 7-G-ND-0505

Residence #1

Hwy 281/Canadian Border

Dunseith Co: Rolette ND 58329-

Landholding Agency: GSA

Property Number: 54200620007

Status: Excess

Comment: 1640 sq. ft. bldg and garage, possible asbestos/lead paint, off-site use only

GSA Number: 7-G-ND-0508

Residence #2

Hwy 281/Canadian Border

Dunseith Co: Rolette ND 58329-

Landholding Agency: GSA

Property Number: 54200620008

Status: Excess

Comment: 1490 sq. ft., attached garage, possible asbestos/lead paint, off-site use only

GSA Number: 7-G-ND-0507

Residence #3

Hwy 281/Canadian Border

Dunseith Co: Rolette ND 58329-

Landholding Agency: GSA

Property Number: 54200620009

Status: Excess

Comment: 1490 sq. ft., attached garage, possible asbestos/lead paint, off-site use only

GSA Number: 7-G-ND-0506

Residence #1

Hwy 42/Canadian Border

Ambrose Co: Divide ND 58833-

Landholding Agency: GSA

Property Number: 54200620012

Status: Excess

Comment: 2010 sq. ft., possible lead paint, most recent use—residential/office/storage, off site use only

GSA Number: 7-G-ND-0510

Residence #2

Hwy 42/Canadian Border

Ambrose Co: Divide ND 58833-

Landholding Agency: GSA

Property Number: 54200620013

Status: Excess

Comment: 2010 sq. ft., possible lead paint, most recent use—residential/office/storage, off site use only

GSA Number: 7-G-ND-0509

Washington

Illia House

Lower Granite Lock & Dam, 76 Illia Landing Lane

Pomeroy Co: Garfield WA 99347-

Landholding Agency: COE

Property Number: 31200620030

Status: Unutilized

Comment: 1200 sq. ft., most recent use—residential, off-site use only

Unsuitable Properties

Buildings (by State)

California

Bldgs. 2414, 2415, 2417

Edwards AFB

Los Angeles Co: CA 93524-

Landholding Agency: Air Force

Property Number: 18200620001

Status: Unutilized

Reason: Secured Area

Bldgs. 5001 thru 5082

Edwards AFB

Area A

Los Angeles Co: CA 93524-

Landholding Agency: Air Force

Property Number: 18200620002

Status: Unutilized

Reasons: Secured Area; Extensive deterioration

Garages 25001 thru 25100

Edwards AFB

Area A

Los Angeles Co: CA 93524-

Landholding Agency: Air Force

Property Number: 18200620003

Status: Unutilized

Reasons: Secured Area; Extensive deterioration

99 Sheds

Edwards AFB

Area A

Los Angeles Co: CA 93524-

Landholding Agency: Air Force

Property Number: 18200620004

Status: Unutilized

Reasons: Secured Area; Extensive deterioration

Florida

Bldg. SF-33

Franklin Lock & Dam

Alva Co: Lee FL 33920-

Landholding Agency: COE

Property Number: 31200620008

Status: Unutilized

Reason: Extensive deterioration

Bldg. 212

Naval Station

Mayport Co: Duval FL 32228-

Landholding Agency: Navy

Property Number: 77200620011

Status: Unutilized

Reasons: Floodway; Secured Area; Extensive deterioration

Georgia

Bldg. RBR-19689

Di-Lane Plantation

Elberton Co: GA 30635-

Landholding Agency: COE

Property Number: 31200620001

Status: Unutilized

Reason: Extensive deterioration;

Bldg. RBR-19690

Di-Lane Plantation

Elberton Co: GA 30635-

Landholding Agency: COE

Property Number: 31200620002

Status: Unutilized

Reason: Extensive deterioration

Bldg. RBR-19696

Di-Lane Plantation

Elberton Co: GA 30635-

Landholding Agency: COE

Property Number: 31200620003

Status: Unutilized

Reason: Extensive deterioration

Bldg. RBR-19697

Di-Lane Plantation

Elberton Co: GA 30635-

Landholding Agency: COE

Property Number: 31200620004

Status: Unutilized

Reason: Extensive deterioration

Bldg. RBR-19705

Di-Lane Plantation

Elberton Co: GA 30635-

Landholding Agency: COE

Property Number: 31200620005

Status: Unutilized

Reason: Extensive deterioration

Bldg. RBR-19706

Di-Lane Plantation

Elberton Co: GA 30635-

Landholding Agency: COE

Property Number: 31200620006

Status: Unutilized

Reason: Extensive deterioration

Bldg. RBR-19721

Di-Lane Plantation

Elberton Co: GA 30635-

Landholding Agency: COE

Property Number: 31200620007

Status: Unutilized

Reason: Extensive deterioration

Illinois

Bldg. CB562-7141

Wilborn Creek

Shelbyville Co: IL 62565-

Landholding Agency: COE

Property Number: 31200620009

Status: Excess

Reason: Extensive deterioration

Bldg. CB562-7153

Wilborn Creek

Shelbyville Co: IL 62565-

Landholding Agency: COE

Property Number: 31200620010

Status: Excess

Reason: Extensive deterioration

Bldg. CB562-7162

Bo Wood

Shelbyville Co: IL 62565-

Landholding Agency: COE

Property Number: 31200620011

Status: Excess

Reason: Extensive deterioration

Bldg. CB562-7163

Bo Wood

Shelbyville Co: IL 62565-

Landholding Agency: COE

Property Number: 31200620012

Status: Excess

Reason: Extensive deterioration

Bldg. CB562-7164

Bo Wood

Shelbyville Co: IL 62565-

Landholding Agency: COE

Property Number: 31200620013

Status: Excess

Reason: Extensive deterioration

Bldg. CB562-7165

Bo Wood

Shelbyville Co: IL 62565-

Landholding Agency: COE

Property Number: 31200620014

Status: Excess

Reason: Extensive deterioration

Bldg. CB562-7196

Whitley Creek

Shelbyville Co: IL 62565-

Landholding Agency: COE

Property Number: 31200620015

Status: Excess

Reason: Extensive deterioration

Bldg. CB562-7197

Whitley Creek

Shelbyville Co: IL 62565-

Landholding Agency: COE

Property Number: 31200620016

Status: Excess

Reason: Extensive deterioration

Bldg. CB562-7199

Whitley Creek

Shelbyville Co: IL 62565-

Landholding Agency: COE

Property Number: 31200620017

Status: Excess

Reason: Extensive deterioration

Bldg. CB562-7200

Whitley Creek

Shelbyville Co: IL 62565-

Landholding Agency: COE

Property Number: 31200620018

Status: Excess

Reason: Extensive deterioration

Bldg. CB562-9042

Whitley Creek

Shelbyville Co: IL 62565-

Landholding Agency: COE

Property Number: 31200620019

Status: Excess

Reason: Extensive deterioration

Bldg. CB639-7876

Rend Lake

Benton Co: IL 62812-

Landholding Agency: COE

Property Number: 31200620020

Status: Excess

Reason: Extensive deterioration

4 Trailers

FERMILAB

017, 024, 025, 069

Batavia Co: Dupage IL 60510-

Landholding Agency: Energy

Property Number: 41200620009

Status: Excess

Reason: Extensive deterioration

Kansas

Bldgs. 35015, 35011

Minooka Park

Sylvan Grove Co: KS 67481-

Landholding Agency: COE

Property Number: 31200620021

Status: Excess

Reason: Extensive deterioration

Bldgs.

Canning Creek

Council Grove Co: Morris KS 66846-

Landholding Agency: COE

Property Number: 31200620022

Status: Excess

Reason: Extensive deterioration

New Jersey

Somerville Depot

152 U.S. HWY 206

Hillsborough Co: NJ 08844-4135

Landholding Agency: GSA

Property Number: 54200620011

Status: Excess

Reasons: Within 2000 ft. of flammable or explosive material contamination

GSA Number: NJ-08844-4135

North Carolina

Bldg. FAL-19090

Falls Lake

Raleigh Co: NC -

Landholding Agency: COE

Property Number: 31200620023

Status: Unutilized

Reason: Extensive deterioration

Bldgs. 73, 95, 1018

Marine Corps Air Station

Cherry Point Co: NC

Landholding Agency: Navy

Property Number: 77200620003

Status: Unutilized

Reason: Secured Area

4 Bldgs.

Marine Corps Air Station

1350, 1351, 1353, 1359

Cherry Point Co: NC

Landholding Agency: Navy

Property Number: 77200620004

Status: Unutilized

Reason: Secured Area

5 Bldgs.

Marine Corps Air Station

1362, 1364, 1365, 1366, 1369

Cherry Point Co: NC

Landholding Agency: Navy

Property Number: 77200620005

Status: Unutilized

Reason: Secured Area

Bldgs. 1386, 1387, 1388

Marine Corps Air Station

Cherry Point Co: NC

Landholding Agency: Navy

Property Number: 77200620006

Status: Unutilized

Reason: Secured Area

5 Bldgs.

Marine Corps Air Station

1391, 1392, 1393, 1396, 1397

Cherry Point Co: NC

Landholding Agency: Navy

Property Number: 77200620007

Status: Unutilized

Reason: Secured Area

Bldgs. 1504, 3147, 4153

Marine Corps Air Station

Cherry Point Co: NC

Landholding Agency: Navy

Property Number: 77200620008

Status: Unutilized

Reason: Secured Area

Bldgs. 8051, 8065, 8075

Marine Corps Air Station

Cherry Point Co: NC

Landholding Agency: Navy

Property Number: 77200620009

Status: Unutilized

Reason: Secured Area

Bldg. 9025

Marine Corps Air Station

Cherry Point Co: NC

Landholding Agency: Navy

Property Number: 77200620010

Status: Unutilized

Reason: Secured Area

Ohio

House

C.J. Brown Lake

Springfield Co: OH

Landholding Agency: COE

Property Number: 31200620024

Status: Unutilized

Reason: Extensive deterioration

Oklahoma

Facility

Hulah Lake

Copan Co: Osage OK 74022-

Landholding Agency: COE

Property Number: 31200620025

Status: Excess

Reason: Extensive deterioration

Bldg.

Webbers Falls

Muskogee Co: OK 74435-

Landholding Agency: COE

Property Number: 31200620026

Status: Excess

Reason: Extensive deterioration

Virginia

Bldg. JHK-17564

North Bend Park

Boydton Co: VA

Landholding Agency: COE

Property Number: 31200620027

Status: Unutilized

Reason: Extensive deterioration

Bldg. JHK-17556

Maintenance Area

Boydton Co: VA

Landholding Agency: COE

Property Number: 31200620028

Status: Unutilized

Reason: Extensive deterioration

6 Bldgs.

John H. Kerr Project

Boydton Co: VA

Location: JHK-16380, JHK-16381, JHK-16436, JHK-16437, JHK-17384, JHK-17385

Landholding Agency: COE

Property Number: 31200620029

Status: Unutilized

Reason: Extensive deterioration

Bldg. 105

Naval Support Activity

Dahlgren Co: King George VA 22448-

Landholding Agency: Navy

Property Number: 77200620012

Status: Unutilized

Reason: Extensive deterioration

Washington

79 Structures

Hanford Site 100, 300, 400

Richland Co: Benton WA 99352-

Location: Infrastructure & Utilities Facilities

Landholding Agency: Energy

Property Number: 41200620010

Status: Excess

Reason: Secured Area

87 Structures

Hanford Site 100, 300, 400

Richland Co: Benton WA 99351-

Location: Mobile Offices

Landholding Agency: Energy

Property Number: 41200620011

Status: Excess

Reason: Secured Area

139 Structures

Hanford Site 100, 300, 400

Richland Co: Benton WA 99352-

Location: Offices & Support Facilities

Landholding Agency: Energy

Property Number: 41200620012

Status: Excess

Reason: Secured Area

122 Structures

Hanford Site 100, 300, 400

Richland Co: Benton WA 99352-

Location: Process & Operations Facilities

Landholding Agency: Energy

Property Number: 41200620013

Status: Excess

Reason: Secured Area

Wisconsin

Bldg. OV1

USCG Station

Bayfield Co: WI 54814-

Landholding Agency: Coast Guard

Property Number: 88200620001

Status: Excess

Reason: Secured Area

[FR Doc. E6-7446 Filed 5-18-06; 8:45 am]

BILLING CODE 4210-67-P